DEPARTMENT OF AGRICULTURE

Forest Service

Intent To Establish Secure Rural Schools Resource Advisory Committees

AGENCY: Forest Service, Agriculture (USDA).

ACTION: Notice of intent to establish Secure Rural Schools Resource Advisory Committees.

SUMMARY: The Forest Service, United States Department of Agriculture (USDA), intends to establish the following: The Greater Rocky Mountain Resource Advisory Committee (RAC) in the Rocky Mountain Region (R2) by consolidating the Saguache-Upper Rio Grande, Rocky Mountain, and San Juan RACs; the Rural Nevada RAC in the Intermountain Region (R4) by consolidating the White Pine-Nye and Humboldt NV RACs; the National Forests in Mississippi RAC in the Southern Region (R8) by consolidating the Delta-Bienville, DeSoto, Holly Springs-Tombigbee, and Southwest Missippippi RACs; the Ottawa RAC in the Eastern Region (R9) by consolidating the Gogebic and Ontonagon RACs; the North Tongass RAC in the Alaska Region (R10) by consolidating the Juneau, Lynn Canal-Icy Strait, Yakutat, and Sitka RAC; and the South Tongass RAC in the Alaska Region (R10) by consolidating the Wrangell-Petersburg, Prince of Wales, and Ketchikan RACs. Secure Rural Schools (SRS) RACs are established pursuant to the Secure Rural Schools and Community Self-Determination Act (the Act), as amended, and most recently authorized in accordance to the Agricultural Improvement Act of 2018 (Pub. L. 115-334). The SRS RACs will operate in compliance with the Federal Advisory Committee Act (FACA). The purpose of the SRS RACs is to improve collaborative relationships among people who use and care for National Forests. The Secretary has determined that the work of the SRS RACs are in the public's interest and relevant to the duties of the Department of Agriculture. The SRS RACs are statutory committees. Additional information concerning the SRS RACs can be found by visiting the SRS RACs website at: http://www.fs.usda.gov/pts/.

FOR FURTHER INFORMATION CONTACT: Comments concerning this notice should be addressed to Juana Rosas, National Partnership Coordinator, National Partnership Office, USDA Forest Service, Yates Building, 1400 Independence Avenue, Mailstop #1158, Washington, DC 20250. Comments also may be submitted by email to: Juana Rosas at juana.rosas@usda.gov. Individuals who use telecommunication devices for the deaf/hard-of-hearing (TDD) may call the Federal Relay Service (FRS) at 1-800-877-8339, 24 hours a day, every day of the year, including holidays.

SUPPLEMENTARY INFORMATION:

Background

In accordance with the provisions of FACA, the Secretary of Agriculture intends to establish SRS RACs to provide advice and recommendations to the Forest Service concerning projects and funding consistent with SRS Title II of the Act. The duties of SRS RACs include monitoring projects, advising the Secretary on the progress and results of monitoring efforts, and making recommendations to the Forest Service for any appropriate changes or adjustments to the projects being monitored by the SRS RACs.

SRS RACs Membership

The SRS RACs will be comprised of no more than 15 members and no fewer than 9 members in accordance with the Agricultural Improvement Act of 2018, also known as the 2018 Farm Bill. Members will be approved by the Secretary of Agriculture or their designee except for RACs located in the states of Arizona and Montana where they will be approved by the Regional Forester and each will serve a 4-year term. SRS RAC memberships will be balanced in terms of the points of view represented and functions to be performed. The SRS RACs shall include representation from the following interest areas:

(1) Five persons who represent:

(a) Organized Labor or Non-Timber Forest Product Harvester Groups,

(b) Developed Outdoor Recreation, Off Highway Vehicle Users, or Commercial Recreation Activities,

(c) Energy and Mineral Development, or Commercial or Recreational Fishing Interests,

(d) Commercial Timber Industry, or

(e) Federal Grazing or Other Land Use Permits, or Represent Non-industrial Private Forest Land Owners within the area for which the committee is organized.

(2) Five persons who represent:

(a) Nationally Recognized Environmental Organizations,

(b) Regionally or Locally Recognized Environmental Organizations,

(c) Dispersed Recreational Activities,

(d) Archaeological and Historical Interests, or

(e) Nationally or Regionally Recognized Wild Horse and Burro Interest Groups, Wildlife or Hunting Organizations, or Watershed Associations.

(3) Five persons who represent:

(a) State Elected Office (or a designee),

(b) County or Local Elected Office,

(c) American Indian Tribes within or adjacent to the area for which the committee is organized,

(d) Area School Officials or Teachers, or

(e) Affected Public at Large.

Of these members, one will become the Chairperson who is recognized for their ability to lead a group in a fair and focused manner and who has been briefed on the mission of the RAC. A chairperson is selected by a majority of RAC members. The Committee will meet on an annual basis or as needed and determined by the Forest Service.

In the event that a vacancy arises, the Designated Federal Officer (DFO) may fill the vacancy in the manner in which the original appointments were made. In accordance with the SRS Act, members of the SRS RAC shall serve without compensation. SRS RAC members may be allowed travel and per diem expenses for attendance at committee meetings, subject to approval of the DFO responsible for administrative support to the SRS RAC.

Equal opportunity practices in accordance with USDA policies shall be followed in all appointments to the RACs. To help ensure that the recommendations of the RACs have taken into account the needs of the diverse groups served by the Department, membership shall include, to the extent practicable, individuals representing minorities, women, and persons with disabilities. USDA prohibits discrimination in all of its programs and activities on the basis of race, color, national origin, religion, sex, gender identity (including gender expression), sexual orientation, disability or age. Additionally, discrimination based on political beliefs, income derived from a public assistance program, marital status, family/parental status, or reprisal or retaliation for prior civil rights activity in any program or activity conducted or funded by USDA is also prohibited by statutes enforced by USDA (not all bases apply to all programs).

Dated: September 30, 2021.
Cikena Reid,
USDA Committee Management Officer.

[FR Doc. 2021-21683 Filed 10-4-21; 8:45 am]

BILLING CODE 3411-15-P